DEPARTMENT OF ENERGY

Federal Energy Regulatory Commission

Combined Notice of Filings #1

Take notice that the Commission received the following electric rate filings:

Docket Numbers: ER19-1276-002.

Applicants: Ameren Illinois Company.

Description: Compliance filing of Ameren Illinois.

Filed Date: 5/22/20.

Accession Number: 20200522-5351.

Comments Due: 5 p.m. ET 6/12/20.

Docket Numbers: ER20-1893-000..

Applicants: CenterPoint Energy Houston Electric, LLC.

Description: § 205(d) Rate Filing: TFO Tariff Rate Revision to Conform with PUCT-Approved Rate to be effective 5/15/2020.

Filed Date: 5/22/20.

Accession Number: 20200522-5293

Comments Due: 5 p.m. ET 6/12/20.

Docket Numbers: ER20-1894-000.

Applicants: Highlander IA, LLC.

Description: Baseline eTariff Filing: Highlander IA, LLC.—Shared Facilities Agreement to be effective 5/23/2020.

Filed Date: 5/22/20.

Accession Number: 20200522-5309

Comments Due: 5 p.m. ET 6/12/20.

Docket Numbers: ER20-1895-000.

Applicants: Midcontinent Independent System Operator, Inc.

Description: § 205(d) Rate Filing: 2020-05-26_SA 3497 Duke Energy-Fairbanks Solar Energy GIA (J829) to be effective 5/11/2020.

Filed Date: 5/26/20.

Accession Number: 20200526-5068.

Comments Due: 5 p.m. ET 6/16/20.

Docket Numbers: ER20-1896-000.

Applicants: NSTAR Energy Company.

Description: Notice of cancellation of various transmission service agreements of NSTAR Energy Company.

Filed Date: 5/26/20.

Accession Number: 20200526-5106.

Comments Due: 5 p.m. ET 6/16/20.

Docket Numbers: ER20-1897-000.

Applicants: Pleinmont Solar 1, LLC.

Description: § 205(d) Rate Filing: Pleinmont Solar 1, LLC. Certificate of Concurrence with SFA to be effective 5/27/2020.

Filed Date: 5/26/20.

Accession Number: 20200526-5153.

Comments Due: 5 p.m. ET 6/16/20.

Docket Numbers: ER20-1898-000.

Applicants: Pleinmont Solar 2, LLC.

Description: § 205(d) Rate Filing: Pleinmont Solar 2, LLC. Certificate of Concurrence with SFA to be effective 5/27/2020.

Filed Date: 5/26/20.

Accession Number: 20200526-5159.

Comments Due: 5 p.m. ET 6/16/20.

Docket Numbers: ER20-1899-000.

Applicants: Richmond Spider Solar, LLC.

Description: § 205(d) Rate Filing: Richmond Spider Solar, LLC. Certificate of Concurrence with SFA to be effective 5/27/2020.

Filed Date: 5/26/20.

Accession Number: 20200526-5161.

Comments Due: 5 p.m. ET 6/16/20.

Docket Numbers: ER20-1900-000.

Applicants: Highlander Solar Energy Station 1, LLC.

Description: § 205(d) Rate Filing: Highlander Solar Energy Station 1, LLC. Certificate of Concurrence with SFA to be effective 5/27/2020.

Filed Date: 5/26/20.

Accession Number: 20200526-5177.

Comments Due: 5 p.m. ET 6/16/20.

Take notice that the Commission received the following electric securities filings:

Docket Numbers: ES20-23-000.

Applicants: Mississippi Power Company.

Description: Amendment to April 14, 2020 Application Under Section 204 of the Federal Power Act for Authorization to Issue Securities of Mississippi Power Company.

Filed Date: 5/22/20.

Accession Number: 20200522-5292

Comments Due: 5 p.m. ET 5/27/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2020.
Nathaniel J. Davis, Sr.,
Deputy Secretary.

[FR Doc. 2020-11686 Filed 5-29-20; 8:45 am]

BILLING CODE 6717-01-P